FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 28, 2009.

A. Federal Reserve Bank of Kansas City (Todd Offenbacker, Assistant Vice President) 1 Memorial Drive, Kansas City, Missouri 64198-0001:

1. William B. Vollbracht, individually, and as managing member of The GDO Partnership and Vollbracht Properties, LLC; and as controlling shareholder of Land Title Guarantee Company, and Land Title Insurance Corporation, all of Denver, Colorado; and as a member of a family group acting in concert consisting of Leslie D. Vollbracht, Carole E. Earle, Judith L. Freehling Trust, The GDO Partnership, Land Title Guarantee Company, Land Title Insurance Corporation, and Vollbracht Properties, LLC, all of Denver, Colorado; Dana L. Vollbracht, Castle Rock, Colorado; Alison Vollbracht Winfield, and Kirby Franklin Winfield III Trust, both of Seattle, Washington; to retain control of Alpine Banks of Colorado, and thereby indirectly retain control of Alpine Bank, both of Glenwood Springs, Colorado.

Board of Governors of the Federal Reserve System, May 8, 2009.
Robert deV. Frierson,
Deputy Secretary of the Board.

[FR Doc. E9-11134 Filed 5-12-09; 8:45 am]

BILLING CODE 6210-01-S